DEPARTMENT OF TRANSPORTATION

Federal Motor Carrier Safety Administration

49 CFR Parts 385 and 395

[Docket No. FMCSA-2004-19608]

RIN 2126-AB14

Hours of Service of Drivers; Availability of Supplemental Documents

AGENCY: Federal Motor Carrier Safety Administration (FMCSA), DOT.

ACTION: Notice of availability of supplemental documents.

SUMMARY: This notice advises the public that FMCSA is placing in the public docket four additional documents concerning hours of service (HOS) for commercial motor vehicle (CMV) drivers. FMCSA published an interim final rule (IFR) on this issue on December 17, 2007. The Agency now dockets the supplemental documents.

ADDRESSES: You may submit comments, identified by docket number FMCSA-2004-19608, by one of the following methods: Internet, facsimile, regular mail, or hand delivery. Please do not submit the same comments by more than one method. FMCSA encourages use of the Federal eRulemaking portal. It provides the most efficient and timely method of receiving and processing your comments.

• Federal eRulemaking Portal: Go to http://www.regulations.gov. Follow the online instructions for submitting comments.

• Fax: 1-202-493-2251.

• Mail: Docket Management Facility; U.S. Department of Transportation; 1200 New Jersey Avenue, SE., Washington, DC 20590-0001.

• Hand Delivery: Ground floor, Room W12-140, 1200 New Jersey Avenue, SE., Washington, DC, between 9 a.m. and 5 p.m., e.t., Monday through Friday, except Federal holidays.

Instructions: All submissions must include the Agency name and docket number (FMCSA-2004-19608) or Regulatory Identification Number (RIN 2126-AB14) for this action. Note that all comments received will be posted without change to http://www.regulations.gov, including any personal information provided. Refer to the Privacy Act heading at http://www.regulations.gov for further information.

Privacy Act: Anyone is able to search the electronic form of all comments received into any of our dockets by the name of the individual submitting the comment (or signing the comment, if submitted on behalf of an association, business, labor union, etc.). You may review the Department of Transportation's complete Privacy Act Statement in the Federal Register published on April 11, 2000 (65 FR 19476) or you may visit http://DocketsInfo.dot.gov.

Submitting Comments:

• You can find electronic submission and retrieval help and guidelines under the “help” section of the Web site.

• For notification that FMCSA received your comments, please include a self-addressed, stamped envelope or postcard, or print the acknowledgement page that appears after submitting comments on line.

• All comments received will be available for examination in the docket at the above address or on the Web site.

• Comments received will be considered to the extent practicable.

FMCSA will continue to put relevant information in the docket as it becomes available and interested persons should continue to examine the docket for new material.

FOR FURTHER INFORMATION CONTACT: Mr. Thomas Yager, Chief, FMCSA Driver and Carrier Operations. Telephone (202) 366-4325 or E-mail MCPSD@dot.gov. Office hours are from 7:45 a.m. to 4:15 p.m., e.t., Monday through Friday, except Federal holidays.

SUPPLEMENTARY INFORMATION: On August, 25, 2005, FMCSA published a final HOS rule (“2005 rule”) (70 FR 49978). On July 24, 2007, the DC Circuit Court vacated the 11-hour driving time and 34-hour restart provisions of the 2005 rule (Owner-Operator Independent Drivers Association, Inc. v. Federal Motor Carrier Safety Administration, 494 F.3d 188 (DC Cir. 2007)). In response to the DC Circuit Court decision, FMCSA published an interim final rule (IFR) on December 17, 2007 (72 FR 71247) that reinstated the two provisions vacated by the Court and sought further comments on those provisions.

For a full background on this rulemaking, please see the preamble to the December 2007 HOS IFR. The docket for this rulemaking (FMCSA-2004-19608) contains all of the background information for this rulemaking, including comments.

This notice advises of the availability of four additional documents. FMCSA remains committed to issuing a final rule in 2008 and any comments on the four documents should be submitted as soon as possible.

FMCSA is placing the following four documents in the docket:

• “Integrated Report: Peer Review of R. J. Hanowski et al., “Analysis of Risk as a Function of Driving Hours: Assessment of Driving Hours 1 through 11.”” The separate reviews were conducted by D.A. Perrin (January 23, 2008), G. Belenky and L.J. Wu (February 6, 2008), and S.R. Hursh and J. Fanzone (February 7, 2008). This peer review was conducted at the request of FMCSA.

• “Review of Hours of Service Regulatory Impact Analysis (RIA) Report,” conducted by Linda Ng Boyle, Ron Knipling, and Greg Belenky, and dated December 27, 2007. This peer review was conducted at the request of FMCSA.

• “Hours of Service Regulatory Impact Analysis: Peer Review Results and FMCSA Responses,” dated May 2008. This document was prepared in response to the requested peer review of the RIA that accompanied the 2007 HOS IFR.

• “Analysis of Fatigue-Related Large Truck Crashes, the Assignment of Critical Reason, and Other Variables Using the Large Truck Crash Causation Study.” This analysis, dated May 30, 2008, was prepared by FMCSA.

Issued on: June 20, 2008.
John H. Hill,
Administrator.

[FR Doc. E8-14491 Filed 6-24-08; 8:45 am]

BILLING CODE 4910-EX-P